DEPARTMENT OF STATE

[Public Notice 4000]

Bureau of Educational and Cultural Affairs Request for Grant Proposals: Jazz Ambassadors

SUMMARY: The Cultural Programs Division in the Office of Citizen Exchanges of the Bureau of Educational and Cultural Affairs (ECA) announces an open competition for a grant to support the 2002 and 2003 Jazz Ambassadors Program. The Jazz Ambassadors Program sends a selected number of professional American jazz musicians on concert tours in countries where there is limited exposure to American culture. The jazz ensembles selected for this program demonstrate the highest artistic and musical ability, and are conversant with broader aspects of contemporary American society and culture. Tours include workshops and master classes in addition to concerts.

The program goals are to promote mutual understanding and cross-cultural awareness. The tours accomplish this by providing an opportunity for international audiences to experience American life and traditions through a musical genre that highlights our country's cultural history, as well as allowing Americans to learn about life and culture in the foreign host countries.

Public and private U.S. non-profit organizations meeting the provisions described in Internal Revenue Code section 26 USC 501(c)(3) are invited to submit proposals to administer the Jazz Ambassadors Program.

Currently $375,000 is available for this competition. At this time, ECA intends to award one grant for this program. Proposal budgets should include significant cost sharing from the applicant institution and/or other sources. It is possible that supplemental funding may become available later this year to send additional jazz ensembles on overseas tours. All organizations must demonstrate a minimum of four years experience conducting international exchange programs to be eligible for this competition.

Program Information

Overview: Since 1998, the United States Department of State, through the Bureau of Educational and Cultural Affairs, and the John F. Kennedy Center for the Performing Arts have collaborated in the selection and presentation of jazz groups overseas, to present the creativity and artistry of America's unique, original form of music to audiences which rarely have opportunities to hear American music. In 1998, selected jazz ensembles, designated for the first time as “Jazz Ambassadors,” toured Africa, the Near East and South Asia. In 1999, Jazz Ambassadors performed in Latin America, the Middle East, and Africa. For 2002, Jazz Ambassadors may travel to Africa, Asia, Latin America and the Caribbean, the Middle East, and certain countries in Europe and Eurasia.

Jazz Ambassadors must be U.S. citizens at least 21 years old; demonstrate the highest artistic and musical ability; are conversant with broader aspects of contemporary American society and culture; and are adaptable to unescorted, rigorous touring through regions where travel and performance conditions may be difficult. In addition to performances, Jazz Ambassadors conduct or participate in master classes, lectures, workshops, recitals, jam sessions, radio and TV appearances, and other activities with local cultural institutions, musicians and students. Each Jazz Ambassadors ensemble begins its tour with a public performance on the Kennedy Center's Millennium Stage.

Guidelines: The grant period will begin approximately mid July 2002 and continue through approximately mid December 2002. The successful applicant will administer the program for approximately six ensembles, which have been auditioned and selected to travel in Fall 2002. The successful applicant will also take part in the selection process for groups that will travel in 2003.

Proposals should reflect a practical understanding of global cultural, political, economic and social issues. Special attention should be given to describing the applicant organization's experience with planning and implementing complex and unpredictable logistical scenarios in the regions mentioned above. Applicants should identify any U.S. and foreign partner organizations and/or venues with whom they are proposing to collaborate, and describe previous cooperative projects in the section on “Institutional Capacity.”

ECA intends to award a grant to a qualified institution or organization to administer the Jazz Ambassadors program globally. The grant may be renewed up to two times, subject to the grantee organization's successful implementation of the program. Grant activities may include, but are not limited to, tour planning; programming educational and outreach activities in consultation with U.S. embassies abroad; scheduling Millennium Stage dates; assisting Jazz Ambassadors with passport, visa, immunization, and pre-tour preparations; arranging and providing orientation sessions and pre-travel briefings; creating press materials and overseas publicity support; evaluating program activities; reporting; participating in the selection process; and assisting trios and embassies with follow-on program development. Applicants should have experience in global exchange planning and implementation, and should address the above elements in the proposal. The Kennedy Center will manage the Millennium Stage appearances and coordinate the selection process. The successful applicant of this competition would assist with advertising the call for applications and auditions to jazz musicians, and participate in the selection panels for the 2003 program.

The pre-travel briefing session for each ensemble should be held preceding the Millennium Stage appearance, with State Department regional experts and ECA program officers in attendance. The grantee must be highly responsive and able to work in close consultation with the participating U.S. embassies' Public Affairs Sections overseas.

The proposal to administer the Jazz Ambassadors Program must conform to ECA requirements and guidelines outlined in the Solicitation Package. ECA programs are subject to the availability of funds and must comply with J-1 Visa regulations. Further detail and clarification of specific program responsibilities can be found in the Proposal Submission Instructions (PSI), which is part of the formal solicitation package.

Organizations planning to submit a proposal to administer the Jazz Ambassadors Program are strongly recommended to contact the program office for a consultation before the submission deadline. Contact Sandra Rouse, Senior Program Officer, (202) 619-4800; Fax: (202) 619-6315; email: srouse@pd.state.gov.

Budget Guidelines

Currently $375,000 is available to support approximately six ensembles, which have been auditioned and selected to travel in Fall 2002.

It is possible that an additional $475,000 in supplemental funding may become available to fund additional jazz ensembles' to countries with significant Muslim populations in the Middle East, Asia, Africa, Europe and Eurasia. In the event that this funding becomes available, the grant period would be extended and the successful applicant will be expected to administer the program for these additional groups, for an overall total of approximately 12 jazz ensembles.

The Bureau anticipates awarding one grant of over $60,000 under this grant competition. Bureau grant guidelines require that organizations with less than four years experience conducting international exchanges be limited to $60,000 in Bureau funding. Therefore, organizations that cannot demonstrate at least four years experience conducting international exchanges are ineligible to apply under this competition.

Applicants must submit two comprehensive budget requests:

(1) The first budget should not exceed $375,000 in ECA funding for program and administrative costs. For budgeting purposes, applicants should estimate costs based on six (6) trios traveling for approximately four (4) weeks to eight (8) destinations in the following regions: Africa, Latin America & the Caribbean, the Middle East and Asia.

(2) The second budget should not exceed $850,000 in ECA program and administrative costs. For budgeting purposes, applicants should estimate costs based on the items in the first budget, plus six additional (6) trios traveling for approximately four (4) weeks to eight (8) destinations with significant Muslim populations in the Middle East, Asia, Africa, Europe and Eurasia.

Per the example in the Proposal Submission Instructions, there must be a summary budget as well as breakdowns reflecting both administrative and program budgets. Applicants should also provide separate sub-budgets for each program component, phase, location, or activity to provide clarification. Final determination of participating regions and countries will be made in collaboration with ECA, U.S. embassies and the successful applicant after the grant has been awarded.

Cost-Sharing: ECA encourages applicants to provide maximum levels of cost-sharing and funding from private sources in support of its programs. Since ECA's grant assistance constitutes only a portion of total project funding, proposals should list and provide evidence of other sources of cost sharing, including financial and in-kind support. In-kind contributions may include, but are not limited to: hotel and/or housing costs, ground transportation, interpreters, educational materials, presentation items, publications/printing and administrative costs. Proposals with private sector support from foundations, corporations or other institutions are encouraged. Applicants for the subject grant should not document cost-sharing by the Kennedy Center or by U.S. embassies abroad. Please refer to the statement on cost-sharing in the PSI.

Allowable costs for the Jazz Ambassadors Program include:

(1) Program Expenses, including but not limited to: domestic and international travel for the selected ensembles; visas and immunizations; airport taxes and country entrance fees; honoraria; educational materials and presentation items; excess and overweight baggage fees; trip itinerary booklets; press kits and promotional materials; follow-on activities; monitoring & evaluation; and international travel for program implementation and/or evaluation purposes.

(2) Administrative Expenses. The following guidelines may be helpful in developing a proposed budget:

1. Travel Costs. International and domestic airfares (per the Fly America Act), transit costs, ground transportation, and visas for the Jazz Ambassadors to travel to the tour destinations.

2. Per Diem. For the Washington, DC portion of the tour, organizations should use the published Federal per diem rates, and estimate per diems based on a two-night hotel stay per ensemble member. The Public Affairs Sections of the participating U.S. embassies and consulates are responsible for per diem abroad. Domestic per diem rates may be accessed at: http://www.policyworks.gov/.

3. Subgrantees & Consultants. Subgrantee organizations may be used, in which case the written agreement between the prospective grantee and subgrantee should be included in the proposal. Subgrants must be itemized in the budget under General Program Expenses. Consultants may be used to provide specialized expertise. Daily honoraria cannot exceed $250 per day, and applicants are strongly encouraged to use organizational resources and to cost share heavily in this area.

4. Health Insurance. Each Jazz Ambassador will be covered under the terms of the ECA-sponsored ASPE health insurance policy. The cost for international travel insurance for staff travel may be included in the proposal budget.

5. Jazz Ambassadors Honoraria. Daily honorarium is $200 per day for each performer, including rest days.

6. Educational and Promotional Items. Ensemble members may use these funds for individual purchases or they may pool funds for joint purchases. ECA funds for educational and promotional items should not exceed $500 per ensemble.

7. Excess Baggage. Excess baggage costs are based on size and weight of instrument. Excess baggage estimates may be subject to change once actual tour itineraries are scheduled, however for proposal budget purposes, costs should be estimated at $2,000 per ensemble.

8. Immunizations/Visas. For purposes of a proposed budget, line items for immunizations should be estimated at $800 per musician, and visas/visa photos should be estimated at $650 per musician.

9. Press Kits. Each overseas post should receive appropriate contents for press kits. Items may be created and sent electronically, with the understanding that in some cases, posts may not be able to access large files or attachments. This line item may also include funds for shooting and duplicating B&W publicity photos, and duplicating CDs.

10. Staff Travel. Allowable costs include domestic staff travel for one staff member to attend selection panels in approximately two U.S. cities. International staff travel will be allowable, especially if associated with monitoring and evaluation, as long as costs for a full four-week tour for each ensemble are completely covered. Cost-sharing staff travel is strongly encouraged.

11. Administrative Costs. Costs necessary for the effective administration of the program may include salaries for grantee organization employees, benefits, and other direct and indirect costs per detailed instructions in the Application Package. While there is no rigid ratio of administrative to program costs, proposals whose administrative costs are less than twenty-five (25) per cent of the total requested from ECA and those that show strong administrative cost-sharing are strongly encouraged.

Announcement Title and Number: All correspondence with the Bureau concerning this RFGP should reference the above title and number ECA/PE/C/CU-02-35.

For Further Information, Contact: The Cultural Programs Office, ECA/PE/C/CU, Rm. 568, U.S. Department of State, 301 Fourth Street, SW., Washington, DC 20547, Tel: (202) 619-4800, Fax: (202) 619-6315, email: srouse@pd.state.gov to request a Solicitation Package. The Solicitation Package is comprised of the Request for Grant Proposals (RFGP) and Proposal Submission Instructions (PSI) and contains detailed award criteria, required application forms, specific budget instructions, and standard guidelines for proposal preparation. Please specify “Jazz Ambassadors 2002” on all inquiries and correspondence.

Please read the complete Federal Register announcement before sending inquiries or submitting proposals. Once the RFGP deadline has passed, ECA staff may not discuss this competition with applicants until the proposal review process has been completed.

To Download a Solicitation Package via Internet

The entire Solicitation Package may be downloaded from the Bureau's website at: http://exchanges.state.gov/education/RFGPs.

Deadline for Proposals

All proposal copies must be received at the Bureau of Educational and Cultural Affairs by 5 p.m. Washington, DC time on Thursday, June 13, 2002. Faxed documents will not be accepted at any time. The mailroom closes at 5 p.m.; no late submissions will be accepted. Documents postmarked by June 13, 2002, but received at a later date, will not be accepted. Each applicant must ensure that the proposals are received by the above deadline.

Applicants must follow all instructions in the Solicitation Package. The original and ten (10) copies of the application should be sent to: U.S. Department of State/SA-44, Bureau of Educational and Cultural Affairs, Ref.: ECA/PE/C/CU-02-35, Program Management, ECA/EX/PM, Room 534, 301 Fourth Street, SW., Washington, DC 20547.

Applicants must also submit the “Executive Summary,” “Proposal Narrative,” and “Budget” sections of the proposal on a 3.5” diskette. These files will be transmitted electronically to the Public Affairs sections at the U.S. embassies for review, with the goal of reducing the time it takes to get embassy comments for the grants review process.

Diversity, Freedom and Democracy Guidelines

Pursuant to ECA's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office as well as the Public Affairs Sections of relevant U.S. embassies. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Institutional Capacity/Institution's Track Record: The proposal should include: (1) The U.S. institution's mission and date of establishment, (2) detailed information about the foreign partner institution's capacity and the history of joint projects, (3) descriptions of experienced staff members who will implement the program, and (4) relevant information that establishes at least a four year successful track record, including responsible fiscal management and full compliance with all reporting requirements. Proposed personnel and institutional resources should be adequate and appropriate to achieve the program's goals. The narrative should demonstrate proven ability to handle logistics. ECA will consider the past performance of prior recipients and the demonstrated potential of new applicants.

2. Program planning: Detailed agenda and relevant work plan should demonstrate substantive undertakings and logistical capacity. Agenda and plan should adhere to the program overview and guidelines described above.

3. Cost-effectiveness/Cost-sharing: The overhead and administrative components of the proposal, including salaries and honoraria, should be kept as low as possible. All other items should be necessary and appropriate. Applicants are encouraged to cost share a portion of overhead and administrative expenses. Cost-sharing, including contributions from the applicant, the foreign partner, and other sources should be included in the budget. Applicants should attempt to cost share at least 30% of program and/or administrative costs.

4. Project Evaluation: Proposals should include a plan to evaluate the activity's success, both as the activities unfold and at the end of the program. The Bureau recommends that the proposal include a draft survey questionnaire or other technique plus description of a methodology to use to link outcomes to original project objectives. Award-receiving organizations/institutions will be expected to submit intermediate reports after each project component is concluded or quarterly, whichever is less frequent.

5. Follow-on Activities: Proposals should provide a plan for continued follow-on activity in the U.S. and/or abroad, insuring that Bureau-supported programs are not isolated events. Innovative and creative ideas are encouraged.

6. Support of Diversity: Proposals should demonstrate the recipient's commitment to promoting the awareness and understanding of diversity. Applicants should refer to the “Diversity, Freedom and Democracy Guidelines” on page four of the Proposal Submission Instructions (PSI).

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 23, 2002.
Patricia S. Harrison,
Assistant Secretary for Educational and Cultural Affairs, Department of State.

[FR Doc. 02-10902 Filed 5-1-02; 8:45 am]

BILLING CODE 4710-05-P